DEPARTMENT OF COMMERCE

International Trade Administration

[A-570-981, A-552-814]

Utility Scale Wind Towers From the People's Republic of China and the Socialist Republic of Vietnam: Postponement of Preliminary Determinations of Antidumping Duty Investigations

AGENCY: Import Administration, International Trade Administration, Department of Commerce.

DATES: May 17, 2012.

FOR FURTHER INFORMATION CONTACT: Shawn Higgins (People's Republic of China) or Magd Zalok (Socialist Republic of Vietnam), AD/CVD Operations, Office 4, Import Administration, International Trade Administration, U.S. Department of Commerce, 14th Street and Constitution Avenue NW., Washington, DC 20230, telephone: (202) 482-0679 or (202) 482-4162, respectively.

SUPPLEMENTARY INFORMATION:

Postponement of Preliminary Determinations

On January 24, 2012, the Department of Commerce (the “Department”) published a notice of initiation of antidumping duty investigations of utility scale wind towers from the People's Republic of China and the Socialist Republic of Vietnam.¹ The notice of initiation stated that the Department, in accordance with section 773(b)(1)(A) of the Tariff Act of 1930, as amended (the “Act”), and 19 CFR 351.205(b)(1), would issue its preliminary determinations for these investigations, unless postponed, no later than 140 days after the date of the initiation. The preliminary determinations of these antidumping duty investigations are currently due no later than June 6, 2012.

¹ See Utility Scale Wind Towers From the People's Republic of China and the Socialist Republic of Vietnam: Initiation of Antidumping Duty Investigations, 77 FR 3440 (January 24, 2012).

On May 3, 2012, the Wind Tower Trade Coalition (“Petitioner”), pursuant to section 733(c)(1)(A) of the Act and 19 CFR 351.205(b)(2) and (e), made a timely request for postponement of the preliminary determinations in these investigations.² Petitioner requested a 50-day postponement of the preliminary determinations in order to provide the Department with sufficient time to review the questionnaire responses and issue appropriate requests for clarification and additional information.

² See Letter from Petitioner to the Secretary of Commerce, “Certain Utility Scale Wind Towers from the People's Republic of China and the Socialist Republic of Vietnam: Request to Fully Extend Preliminary Determination” (May 3, 2012).

Because there are no compelling reasons to deny the request, the Department, in accordance with section 733(c)(1)(A) of the Act, is postponing the deadline for the preliminary determinations to no later than 190 days after the date on which the Department initiated these investigations. Therefore, the new deadline for issuing these preliminary determinations is July 26, 2012.

This notice is issued and published pursuant to section 733(c)(2) of the Act and 19 CFR 351.205(f)(1).

Dated: May 10, 2012.
Lynn Fischer Fox,
Acting Assistant Secretary for Import Administration.

[FR Doc. 2012-11980 Filed 5-16-12; 8:45 am]

BILLING CODE 3510-DS-P